DEPARTMENT OF COMMERCE

Foreign-Trade Zones Board

[Docket 49-2008]

Foreign-Trade Zone 84 Houston, Texas, Application for Expansion

An application has been submitted to the Foreign-Trade Zones (FTZ) Board (the Board) by the Port of Houston Authority, grantee of FTZ 84, requesting authority to expand its zone in the Houston, Texas, area, adjacent to the Houston CBP port of entry. The application was submitted pursuant to the provisions of the Foreign-Trade Zones Act, as amended (19 U.S.C. 81a-81u), and the regulations of the Board (15 CFR Part 400). It was formally filed on September 10, 2008.

FTZ 84 was approved on July 15, 1983 (Board Order 214, 48 FR 34792, 8/1/83). The zone was expanded on December 24, 1991 (Board Order 551, 57 FR 42, 1/2/92), on December 23, 1993 (Board Order 670, 59 FR 61, 1/3/94), on August 24, 2000 (Board Order 1115, 65 FR 54197, 9/7/00), on March 21, 2003 (Board Order 1271, 68 FR 15431, 3/31/03), and on May 14, 2003 (Board Order 1277, 68 FR 27987, 5/22/03).

The general-purpose zone currently consists of 16 sites (1,799 acres) at port facilities, industrial parks and warehouse facilities in Houston and the Harris County area. The sites -- which are in Houston unless otherwise stated -- are as follows: Site 1 (421 acres)--Houston Ship Channel Turning Basin, Clinton Drive at Highway 610 East Loop; Site 2 (97 acres)--Houston Ship Channel (Bulk Materials Handling Plant), north bank between Greens Bayou and Penn City Road; Site 3 (99 acres)--Barbours Cut Turning Basin, Highway 146 at Highway 225; Site 4 (4 acres)--Cargoways Logistics (formerly Dynamic Warehousing and Trucking), 1201 Hahlo Street; Site 5 (8 acres)--Timco Scrap Processing (formerly Port Houston Storage Depot), 6747 Avenue W; Site 6 (73 acres)--Odfjell Terminals (formerly Baytank (Houston), Inc.), 12211 Port Road; Site 7 (126 acres)--Jacintoport Terminal, Houston Ship Channel,16398 Jacintoport Blvd.; Site 8 (162 acres)--Central Green Business Park,16638 Air Center Blvd.; Site 9 (72 acres)--Manchester Terminal Corporation, 10000 Manchester; Site 10 (14 acres)--13609 Industrial Road, within the Greens Port Industrial Park along the Houston Ship Channel; Site 11 (269 acres)--Oiltanking, Inc.,15602 Jacintoport Boulevard; Site 12 (146 acres)--Kinder Morgan Liquids Terminal LLC, Clinton Drive at Panther Creek and North Witter Street at Bayou Street; Site 13 (18 acres)--Exel Logistics, Inc., 8833 City Park Loop Street; Site 14 (22 acres)--George Bush Intercontinental Airport, Fuel Storage Road, Houston jet fuel storage and distribution system; Site 15 (196 acres)--Magellan Midstream Partners, liquid bulk facility, 12901 American Petroleum Road, Galena Park, Harris County; and, Site 16 (72 acres)--Katoen Natie Gulf Coast Warehousing Complex, Miller Road Cutoff and U.S. Highway 225, Harris County.

The applicant is now requesting authority to expand the general-purpose zone to include six additional sites (980 acres) in the Houston and Harris County area: Proposed Site 17 (172 acres total, 2 parcels)--within the Highway 225 Industrial Development: Underwood Industrial Park (162 acres), located at 2820 East 13th Street, Deer Park, and Battleground Business Park (10 acres), located at the corner of Porter Road and Old Underwood Road, La Porte; Proposed Site 18 (106 acres)--Bay Area Business Park, located at Red Bluff Road and Bay Area Boulevard, Pasadena; Proposed Site 19 (190 acres)--Republic Distribution Center, located on the corner of Red Bluff Road and Choate Road, Pasadena; Proposed Site 20 (299 acres)--Port Crossing Industrial Park, located along McCabe Road and State Highway 146, La Porte; Proposed Site 21 (67 acres)--Port of Houston Authority's Care Terminal, located at 16800 Peninsula Boulevard, Houston; and, Proposed Site 22 (146 acres)--Port of Houston Authority's Beltway 8 Tract, located at the corner of East Belt Drive and Jacintoport Boulevard, Houston. The sites will provide public warehousing and distribution services to area businesses. No specific manufacturing authority is being requested at this time. Such requests would be made to the Board on a case-by-case basis.

In accordance with the Board's regulations, Kathleen Boyce of the FTZ Staff is designated examiner to investigate the application and report to the Board.

Public comment is invited from interested parties. Submissions (original and 3 copies) shall be addressed to the Board's Executive Secretary at the address below. The closing period for their receipt is November 21, 2008. Rebuttal comments in response to material submitted during the foregoing period may be submitted during the subsequent 15-day period to December 8, 2008.

A copy of the application and accompanying exhibits will be available for public inspection at each of the following locations: U.S. Department of Commerce Export Assistance Center, 1919 Smith Street, Suite 1026, Houston, Texas 77002; and, the Office of the Executive Secretary, Foreign-Trade Zones Board, Room 2111, U.S. Department of Commerce, 1401 Constitution Avenue, NW, Washington, DC 20230.

For further information, contact Kathleen Boyce at 202-482-1346 or Kathleen_Boyce@ita.doc.gov.

Dated: September 10, 2008.
Andrew McGilvray,
Executive Secretary.

[FR Doc. E8-22105 Filed 9-19-08; 8:45 am]

BILLING CODE 3510-DS-S